DEPARTMENT OF COMMERCE

International Trade Administration

[A-570-051]

Hardwood Plywood Products From the People's Republic of China: Initiation of Antidumping Duty New Shipper Review; 2019

AGENCY: Enforcement and Compliance, International Trade Administration, Department of Commerce.

SUMMARY: The Department of Commerce (Commerce) has determined that a request for a new shipper review of the antidumping duty order on hardwood plywood products from the People's Republic of China meets the statutory and regulatory requirements for initiation. The period of review for this new shipper review is January 1, 2019 through June 30, 2019.

DATES: Applicable August 27, 2019.

FOR FURTHER INFORMATION CONTACT: Jasun Moy, AD/CVD Operations, Office V, Enforcement and Compliance, International Trade Administration, U.S. Department of Commerce, 1401 Constitution Avenue NW, Washington, DC 20230; telephone: (202) 482-8194.

SUPPLEMENTARY INFORMATION:

Background

On January 4, 2018, Commerce published the antidumping duty order on hardwood plywood products (plywood) from the People's Republic of China (China).¹ On July 30, 2019, Commerce received a timely new shipper review (NSR) request from Xuzhou Constant Forest Industry Co., Ltd. (Constant Forest), in accordance with section 751(a)(2)(B)(i) of the Tariff Act of 1930, as amended (the Act), and 19 CFR 351.214(c).² The deadline for the NSR initiation decision is August 30, 2019.

¹ See Certain Hardwood Plywood Products from the People's Republic of China: Amended Final Determination of Sales at Less Than Fair Value, and Antidumping Duty Order, 83 FR 504 (January 4, 2018) (Order).

² See Constant Forest's Letter, “Certain Hardwood Plywood Products from the People's Republic of China—Request for New Shipper Review,” dated July 30, 2019.

In its submission, Constant Forest certified that it is both the producer and exporter of the subject merchandise upon which the NSR request is based.³ Pursuant to section 751(a)(2)(B)(i)(I) of the Act and 19 CFR 351.214(b)(2)(i), Constant Forest certified that it did not export plywood to the United States during the period of investigation (POI).⁴ Additionally, pursuant to section 751(a)(2)(B)(i)(II) of the Act and 19 CFR 351.214(b)(2)(iii)(A), Constant Forest certified that, since the initiation of the investigation, it has never been affiliated with any producer or exporter that exported plywood to the United States during the POI, including those not individually examined during the investigation.⁵ As required by 19 CFR 351.214(b)(2)(iii)(B), Constant Forest also certified that its export activities were not controlled by the Government of China.⁶ Constant Forest additionally certified that it has had no subsequent shipments of subject merchandise.⁷

³ Id. at Exhibit 1.

⁴ Id.

⁵ Id.

⁶ Id.

⁷ Id.

In addition to the certifications described above, pursuant to 19 CFR 351.214(b)(2)(iv), Constant Forest submitted documentation establishing the following: (1) The date on which the company first shipped plywood for export to the United States and the date on which the plywood was first entered, or withdrawn from warehouse, for consumption; (2) the volume of its first shipment; and (3) the date of its first sale to an unaffiliated customer in the United States.⁸

⁸ Id. at Exhibit 2.

Commerce conducted a query of the U.S. Customs and Border Protection (CBP) database and confirmed that Constant Forest's shipment of subject merchandise had entered the United States for consumption and that liquidation of such entries had been properly suspended for antidumping duties. The information that Commerce examined was consistent with that provided by Constant Forest in its request. In particular, the CBP data confirmed the price and quantity reported by Constant Forest for the sale that forms the basis of this NSR request. Commerce also confirmed by examining CBP data that Constant Forest's entries were made during the period of review specified by Commerce's regulations.⁹

⁹ See Memorandum, “Release of U.S. Customs and Border Protection Information,” dated concurrently with this notice; see also Memorandum, “Initiation of Antidumping New Shipper Review: Hardwood Plywood Products from the People's Republic of China,” dated concurrently with this notice (NSR Initiation Checklist).

Period of Review

Pursuant to 19 CFR 351.214(c), an exporter or producer may request an NSR within one year of the date on which its subject merchandise was first entered. Further, 19 CFR 351.214(d)(1) states that Commerce will initiate an NSR in the calendar month immediately following the anniversary month or the semiannual anniversary month if the request for review is made during the six-month period ending with the end of the anniversary month or the semi-annual anniversary month, whichever is applicable. In accordance with 19 CFR 351.214(g)(1)(i)(B), the period of review (POR) for an NSR initiated in the month immediately following the semiannual anniversary month will be the six-month period immediately preceding the semi-annual anniversary month. Constant Forest requested this NSR within one year of the date on which its plywood was first entered, and the request was filed in July 2019, which is the semiannual anniversary month of the Order. Therefore, the POR for this NSR is January 1, 2019 through June 30, 2019.

Initiation of New Shipper Review

Pursuant to section 751(a)(2)(B) of the Act, 19 CFR 351.214(b), and the information on the record, we find that the request from Constant Forest meets the threshold requirements for the initiation of an NSR for shipments of plywood from China produced and exported during the POR by Constant Forest.¹⁰ However, if the information supplied by Constant Forest is later found to be incorrect or insufficient during the course of this proceeding, Commerce may rescind the review or apply adverse facts available, pursuant to section 776 of the Act, depending upon the facts on record. Unless extended, Commerce intends to issue the preliminary results within 180 days from the date of initiation, and the final results within 90 days from the issuance of the preliminary results.¹¹

¹⁰ See NSR Initiation Checklist.

¹¹ See section 751(a)(2)(B)(iii) of the Act and 19 CFR 351.214(i).

It is our usual practice, in cases involving non-market economies, to require that a company seeking to establish eligibility for an AD rate separate from the country-wide rate (i.e., a separate rate) provide evidence of de jure and de facto absence of government control over the company's export activities.¹² Accordingly, Commerce will issue questionnaires to Constant Forest that will include a section requesting information with regard to the company's export activities for the purpose of establishing its eligibility for a separate rate. The review will proceed if the response provides sufficient indication that Constant Forest is not subject to either de jure or de facto government control with respect to its exports of subject merchandise.

¹² See Import Administration Policy Bulletin, Number: 05.1. (http://ia.ita.doc.gov/policy/bull05-1.pdf).

We will conduct this new shipper review in accordance with section 751(a)(2)(B) of the Act, as amended by the Trade Facilitation and Trade Enforcement Act of 2015.¹³

¹³ The Trade Facilitation and Trade Enforcement Act of 2015 removed from section 75l(a)(2)(B) of the Act the provision directing Commerce to instruct Customs and Border Protection to allow an importer the option of posting a bond or security in lieu of a cash deposit during the pendency of a new shipper review.

Because Constant Forest certified that it produced and exported subject merchandise, the sale of which is the basis for its request for an NSR, we will instruct CBP to continue to suspend liquidation of all entries of subject merchandise produced and exported by Constant Forest.

To assist in its analysis of the bona fide nature of Constant Forest's sales, upon initiation of this NSR, Commerce will require Constant Forest to submit, on an ongoing basis, complete transaction information concerning any sales of subject merchandise to the United States that were made subsequent to the POR.

Interested parties requiring access to propietary information in this proceeding should submit applications for disclosure under administrative protective order in accordance with 19 CFR 351.305 and 19 CFR 351.306.

This initiation and notice are in accordance with section 751(a)(2)(B) of the Act and 19 CFR 351.214 and 19 CFR 351.221(c)(1)(i).

Dated: August 22, 2019.
James Maeder,
Deputy Assistant Secretary for Antidumping and Countervailing Duty Operations.

[FR Doc. 2019-18450 Filed 8-26-19; 8:45 am]

BILLING CODE 3510-DS-P